DEPARTMENT OF ENERGY

Federal Energy Regulatory Commission

[Project No. 1971-079]

Idaho Power Company, Idaho/Oregon; Notice of Intent To Hold Public Meetings

August 11, 2006.

In accordance with the National Environmental Policy Act of 1969 and the Federal Energy Regulatory Commission's (Commission) regulations, 18 CFR Part 380 (Order No. 486, 52 Fed. Reg. 47897), the Office of Energy Projects reviewed the application for license for the Hells Canyon Project (FERC No. 1971), located on the Snake River in Washington and Adams Counties, Idaho, and Wallowa and Baker Counties, Oregon, and issued a Draft Environmental Impact Statement (draft EIS) for the project on July 28, 2006.

Copies of the draft EIS are available for review at the Commission's Public Reference Branch, Room 2A, located at 888 First Street, N.E., Washington, DC 20426 or may be viewed on the Commission's Web site at http://www.ferc.gov under the e-Library link by entering the docket number, P-1971, in the e-Library docket number field. For assistance, e-mail FERC Online Support at FERCOnlineSupport@ferc.gov or call toll-free at 1-866-208-3676, or for TTY, (202) 502-8659.

You are invited to attend any or all of four public meetings that will be held to receive comments on the draft EIS. The time and location of the meetings are as follows:

Boise, ID

Date: September 7, 2006.

Time: 7 to 11 p.m. (MST).

Place: Doubletree Hotel Boise Riverside.

Address: 2900 Chinden Blvd., Boise, ID.

Date: September 8, 2006.

Time: 10 a.m. to 2 p.m. (MST).

Place: Doubletree Hotel Boise Riverside.

Address: 2900 Chinden Blvd., Boise, ID.

Halfway, OR

Date: September 11, 2006.

Time: 7 to 9 p.m. (MST).

Place: Lions Hall.

Address: Center Street, Halfway, OR.

Weiser, ID

Date: September 12, 2006.

Time: 7 to 9 p.m. (MST).

Place: Weiser Senior Center.

Address: 115 E. Main Street, Weiser, ID.

At these meetings, resource agency personnel and other interested persons will have the opportunity to provide oral and written comments and recommendations regarding the draft EIS. The meetings will be recorded by a court reporter, and all statements (verbal and written) will become part of the Commission's public record for the project. These meetings are posted on the Commission's calendar located at http://www.ferc.gov/EventCalendar/EventsList.aspx along with other related information.

Whether or not you attend one of these meetings, you are invited to submit written comments on the draft EIS. Comments should be filed with Magalie R. Salas, Secretary, Federal Energy Regulatory Commission, 888 First Street, NE., Washington, DC 20426. All comments must be filed by October 3, 2006, and should reference Project No. 1971-079. Comments may be filed electronically via the Internet in lieu of paper. The Commission strongly encourages electronic filings. See 18 CFR 385.2001(a)(1)(iii) and instructions on the Commission's Web site at http://www.ferc.gov under the “e-Library” link.

The Commission staff will consider comments made on the draft EIS in preparing a final EIS for the project. Before the Commission makes a licensing decision, it will take into account all concerns relevant to the public interest. The final EIS will be part of the record from which the Commission will make its decision.

For further information, contact Alan Mitchnick at (202) 502-6074, alan.mitchnick@ferc.gov; or Emily Carter at (202) 502-6512, emily.carter@ferc.gov.

Magalie R. Salas,
Secretary.

[FR Doc. E6-13624 Filed 8-17-06; 8:45 am]

BILLING CODE 6717-01-P